DEPARTMENT OF THE INTERIOR

Minerals Management Service

Agency Information Collection Activities: Proposed Collection; Comment Request

AGENCY: Minerals Management Service (MMS), Interior.

ACTION: Notice of extension of an information collection (1010-0051).

SUMMARY: To comply with the Paperwork Reduction Act of 1995 (PRA), MMS is inviting comments on a collection of information that will be submitted to the Office of Management and Budget (OMB) for review and approval. The information collection request (ICR) concerns the paperwork requirements in the regulations under “30 CFR 250, Subpart L, Oil and Gas Production Measurement, Surface Commingling, and Security.”

DATE: Submit written comments by January 20, 2004.

ADDRESSES: Mail or hand carry comments to the Department of the Interior; Minerals Management Service; Attention: Rules Processing Team; Mail Stop 4024; 381 Elden Street; Herndon, Virginia 20170-4817. If you wish to e-mail comments, the address is: rules.comments@mms.gov. Reference “Information Collection 1010-0051” in your e-mail subject line and mark your message for return receipt. Include your name and return address in your message.

FOR FURTHER INFORMATION CONTACT: Arlene Bajusz, Rules Processing Team at (703) 787-1600. You may also contact Arlene Bajusz to obtain a copy, at no cost, of the regulations that require the subject collection of information.

SUPPLEMENTARY INFORMATION: Title: 30 CFR 250, Subpart L, Oil and Gas Production Measurement, Surface Commingling, and Security.

OMB Control Number: 1010-0051.

Abstract: The Outer Continental Shelf (OCS) Lands Act, as amended (43 U.S.C. 1331 et seq. and 43 U.S.C. 1801 et seq.), authorizes the Secretary of the Interior (Secretary) to prescribe rules and regulations to administer leasing of the OCS. Such rules and regulations apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

The Federal Oil and Gas Royalty Management Act of 1982 (30 U.S.C. 1701, et seq.) at section 1712(b)(2) prescribes that an operator will “develop and comply with such minimum site security measures as the Secretary deems appropriate, to protect oil or gas produced or stored on a lease site or on the Outer Continental Shelf from theft.” These authorities and responsibilities are among those delegated to MMS under which regulations are issued to govern oil and gas and sulphur operations in the OCS. This information collection request addresses the regulations at 30 CFR part 250, subpart L, Oil and Gas Production Measurement, Surface Commingling, and Security, and the associated supplementary notices to lessees and operators intended to provide clarification, description, or explanation of these regulations.

MMS uses the information collected under subpart L to ensure that the volumes of hydrocarbons produced are measured accurately and that royalties are paid on the proper volumes. Specifically, MMS needs the information to:

• Determine if measurement equipment is properly installed, provides accurate measurement of production on which royalty is due, and is operating properly;

• Obtain rates of production data in allocating the volumes of production measured at royalty sales meters, which can be examined during field inspections;

• Ascertain if all removals of oil and condensate from the lease are reported;

• Determine the amount of oil that was shipped when measurements are taken by gauging the tanks rather than being measured by a meter;

• Ensure that the sales location is secure and that production cannot be removed without the volumes being recorded; and

• Review proving reports to verify that data on run tickets are calculated and reported accurately.

MMS will protect information from respondents considered proprietary under the Freedom of Information Act (5 U.S.C. 552) and its implementing regulations (43 CFR part 2) and under regulations at 30 CFR 250.196, “Data and information to be made available to the public.” No items of a sensitive nature are collected. Responses are mandatory.

Frequency: Varies by section but primarily monthly or “on occasion.”

Estimated Number and Description of Respondents: Approximately 130 Federal OCS oil and gas or sulphur lessees.

Estimated Reporting and Recordkeeping “Hour” Burden: The currently approved annual reporting burden for this collection is 6,540 hours. The following chart details the individual components and respective hour burden estimates of this ICR. In calculating the burdens, MMS assumed that respondents perform certain requirements in the normal course of their activities. We consider these to be usual and customary and took that into account in estimating the burden.

Citation 30 CFR 250 subpart L | Reporting or recordkeeping requirement | Hour burden per response or record
Reporting Requirements
1202(a)(1), (b)(1) | Submit liquid hydrocarbon measurement procedures application and/or changes | 8 hours.
1202(a)(4) | Copy & send pipeline (retrograde) condensate volumes upon request | ¾ hour.
1202(c)(4)* | Copy & send all liquid hydrocarbon run tickets monthly | 1 minute.
1202(d)(4) | Request approval for proving on a schedule other than monthly | 1 hour.
1202(d)(5)* | Copy & submit liquid hydrocarbon royalty meter proving reports monthly & request waiver as needed | 1 minute.
1202(f)(2)* | Copy & submit mechanical-displacement prover & tank prover calibration reports | 10 minutes.
1202(l)(2)* | Copy & submit royalty tank calibration charts before using for royalty measurement | 10 minutes.
1202(l)(3)* | Copy & submit inventory tank calibration charts upon request | ¼ hour.
1203(b)(1) | Submit application for gas measurement procedures or changes | 8 hours.
1203(b)(6), (8), (9)* | Copy & submit gas quality and volume statements upon request (80% of these will be routine; 20% will take longer) | 80% @ 5 mins. 20% @ 30 mins.
1203(c)(4)* | Copy & submit gas meter calibration reports upon request | 5 minutes.
1203(e)(1)* | Copy & submit gas processing plant records upon request | ½ hour.
1203(f)(5) | Copy & submit measuring records of gas lost or used on lease upon request | 5 minutes.
1204(a)(1) | Submit application for commingling of production or changes | 8 hours.
1204(a)(2) | Provide state production volumetric and/or fractional analysis data upon request | 1 hour.
1205(a)(2) | Post signs at royalty or inventory tank used in royalty determination process | 1 hour.
1205(a)(4) | Report security problems (telephone) | ¼ hour
1200 thru 1205 | General departure and alternative compliance requests not specifically covered elsewhere in subpart L | 1 hour.
Recordkeeping Requirements
1202(c)(1), (2) | Record observed data, correction factors & net standard volume on royalty meter and tank run tickets | Respondents record these items as part of normal business records & practices to verify accuracy of production measured for sale purposes.
1202(e)(4) | Record master meter calibration runs
1202(h)(1), (2), (3), (4) | Record mechanical-displacement prover, master meter, or tank prover proof runs
1202(i)(1)(iv), (2)(iii) | Record liquid hydrocarbon royalty meter malfunction and repair or adjustment on proving report; record unregistered production on run ticket
1202(j) | List Cpl and Ctl factors on run tickets
1202(e)(6) | Retain master meter calibration reports for 2 years | 1 minute.
1202(k)(5) | Retain liquid hydrocarbon allocation meter proving reports for 2 years | 1 minute.
1202(l)(3) | Retain liquid hydrocarbon inventory tank calibration charts for as long as tanks are in use | 5 minutes.
1203(c)(4) | Retain calibration reports for 2 years | 1 minute.
1203(f)(4) | Document & retain measurement records on gas lost or used on lease for 2 years at field location and minimum 7 years at location of respondent's choice | 1 minute.
1204(b)(3) | Retain well test data for 2 years | 2 minutes.
1205(b)(3), (4) | Retain seal number lists for 2 years | 2 minutes.
*Respondents gather this information as part of their normal business practices. MMS only requires copies of readily available documents. There is no burden for testing, meter reading, etc.

Estimated Reporting and Recordkeeping “Non-Hour Cost” Burden: We have identified no “non-hour cost” burdens.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: MMS's practice is to make comments, including names and home addresses of respondents, available for public review during regular business hours. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Federal Register Liaison Officer: Denise Johnson, (202) 208-3976.

Dated: November 12, 2003.
E.P. Danenberger,
Chief, Engineering and Operations Division.

[FR Doc. 03-28834 Filed 11-18-03; 8:45 am]

BILLING CODE 4310-MR-P